DEPARTMENT OF ENERGY

Federal Energy Regulatory Commission

[Docket No. PF08-26-001]

Denali—The Alaska Gas Pipeline LLC; Notice of Request for Approval of Plan for Conducting an Open Season

April 8, 2010.

Take notice that on April 7, 2010, pursuant to section 157.38 of the Commission's Regulations governing Open Seasons for Alaska Natural Gas Transportation Projects, Denali—The Alaska Gas Pipeline LLC (Denali) filed a Request for Commission Approval of its Plan for Conducting an Open Season. The proposed Open Season is being held to solicit binding commitments for gas treatment plant services (treating and compression) and firm natural gas transportation provided by Denali's proposed Alaska Project, which is more fully described in the filing.

This filing is accessible online at http://www.ferc.gov, using the “eLibrary” link and is available for review in the Commission's Public Reading Room in Washington, DC. There is an “eSubscription” link on the Commission's Web site that enables subscribers to receive e-mail notification when a document is added to a subscribed docket(s). For assistance with any FERC Online service please e-mail FERCOnlineSupport@ferc.gov, or call (866) 208-3676 (toll free). For TTY, call (202) 502-8659.

Please note that the review of Denali's Alaska's Open Season Plan is being done as part of the pre-filing phase of Denali's Alaska Project. Docket No. PF08-26-001 has been reserved for the Open Season Plan and commenters should use the -001 sub-docket for filings regarding the Open Season Plan. The Commission's Web page for eSubscription allows for subscription only to this specific sub-docket, Docket No. PF08-26-001 or, for those interested in the entire pre-filing process to, “Subscribe to root docket and all existing and new sub-dockets.”

Denali states that, when completed, the Alaska Project will consist of two FERC-jurisdictional transmission lines on the North Slope of Alaska, a FERC-jurisdictional gas treatment plant that will treat North Slope gas for pipeline transportation, and a FERC-jurisdictional gas mainline that will extend from the Alaska North Slope to the border between Alaska and Canada.

Pursuant to section 157.38 of the Commission's Regulations, the Commission plans to act on the Denali proposed Open Season Plan by June 7, 2010. Denali states that if its Open Season Plan is approved by the Commission, the Open Season will commence on July 6, 2010, and conclude on October 4, 2010.

Any questions regarding this Request for Approval of Denali's Open Season Plan may be directed to:

James F. Moriarty, Locke Lord Bissell & Liddell LLP, 701 8th Street, NW.—Suite 700, Washington, DC 20001. (202) 220-6915. jmoriarty@lockelord.com.

Patrick J. Coughlin, Vice President & General Counsel, Denali—The Alaska Gas Pipeline LLC, 188 West Northern Lights Blvd., P.O. Box 241747, Anchorage, AK 99524-1747. (907) 865-4709. Patrick.Coughlin@denalipipeline.com.

Any person desiring to comment on this filing or file a motion to intervene in this phase of the project must file in accordance with the Rule 212 of Commission's Rules of Practice and Procedure. All comments will be considered by the Commission in determining the appropriate action to be taken. In addition to the filing of comments, the Commission will permit the filing of reply comments pursuant to its authority under Rule 213 of the Commission's Rules of Practice and Procedure. The due dates for motions to intervene, comments and reply comments are listed below.

The Commission strongly urges electronic filings of comments and reply comments in lieu of paper using the “eFiling” link at http://www.ferc.gov. Persons unable to file electronically should submit an original and 7 copies of their comments or reply comments to: Federal Energy Regulatory Commission, 888 First Street, NE., Washington, DC 20426. (Label cover letter or first page with case name, Denali—The Alaska Gas Pipeline LLC—Docket No. PF08-26-001)

Comment Date: April 30, 2010.

Reply Comment Date: May 13, 2010.

Kimberly D. Bose,
Secretary.

[FR Doc. 2010-8581 Filed 4-14-10; 8:45 am]

BILLING CODE 6717-01-P